DEPARTMENT OF COMMERCE

Bureau of Economic Analysis

Proposed Information Collection; Comment Request; Survey: Expenditures Incurred by Recipients of Biomedical Research and Development Awards From the National Institutes of Health (NIH)

AGENCY: Bureau of Economic Analysis, Department of Commerce.

ACTION: Notice.

SUMMARY: The Department of Commerce, as part of its continuing effort to reduce paperwork and respondent burden as required by the Paperwork Reduction Act of 1995, invites the general public and other Federal agencies to comment on continuing information collections related to the Expenditures Incurred by Recipients of Biomedical Research and Development Awards survey from the National Institutes of Health (NIH).

DATES: Written comments must be submitted on or before June 19, 2020.

ADDRESSES: Direct all written comments to Jennifer A. Bennett, Chief, Training and Staff Development Section, Expenditure and Income Division, Bureau of Economic Analysis, 4600 Silver Hill Road, BE-57, Washington, DC 20233, or via email at PRAcomments@doc.gov. All comments received are part of the public record. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument and instructions should be directed to Jennifer A. Bennett, Chief, Training and Staff Development Section, Expenditure and Income Division (BE-57), Bureau of Economic Analysis, U.S. Department of Commerce, 4600 Silver Hill Rd. Washington, DC 20233; or via email at jennifer.bennett@bea.gov.

SUPPLEMENTARY INFORMATION:

I. Abstract

The survey obtains the distribution of expenditures incurred by recipients of biomedical research awards from the National Institutes of Health (NIH) and will provide information on how the NIH award amounts are expended across several major categories. This information, along with wage and price data from other published sources, will be used to generate the Biomedical Research and Development Price Index (BRDPI). The Bureau of Economic Analysis (BEA) develops this index for NIH under a reimbursable contract. The BRDPI is an index of prices paid for the labor, supplies, equipment, and other inputs required to perform the biomedical research the NIH supports in its intramural laboratories and through its awards to extramural organizations. The BRDPI is a vital tool for planning the NIH research budget and analyzing future NIH programs. A survey of award recipients is currently the only means for updating the expenditure category weights that are used to prepare the BRDPI.

II. Authority

This survey will be voluntary. The authority for NIH to collect information for the BRDPI is provided in 45 CFR subpart C, Post-Award Requirements, section 74.21. This sets forth explicit standards for grantees in establishing and maintaining financial management systems and records, and section 74.53 which provides for the retention of such records as well as NIH access to such records.

BEA will administer the survey and analyze the survey results on behalf of NIH, through an interagency agreement between the two agencies. The authority for the NIH to contract with the Department of Commerce (DOC) to make this collection is the Economy Act (31 U.S.C. 1535 and 1536).

The “Special Studies” authority, 15 U.S.C. 1525 (first paragraph), permits DOC to provide, upon the request of any person, firm, or public or private organization (a) special studies on matters within the authority of the DOC, including preparing from its records special compilations, lists, bulletins, or reports, and (b) furnishing transcripts or copies of its studies, compilations and other records. NIH's support for this research is consistent with the Agency's duties and authority under 42 U.S.C. 282.

The information provided by the respondents will be held confidential and be used for exclusively statistical purposes. This pledge of confidentiality is made under the Confidential Information Protection provisions of title V, subtitle A, Public Law 107-347. Title V is the Confidential Information Protection and Statistical Efficiency Act of 2002 (CIPSEA). Section 512 (on Limitations on Use and Disclosure of Data and Information) of the Act, provides that “data or information acquired by an agency under a pledge of confidentiality and for exclusively statistical purposes shall be used by officers, employees, or agents of the agency exclusively for statistical purposes. Data or information acquired by an agency under a pledge of confidentiality for exclusively statistical purposes shall not be disclosed by an agency in identifiable form, for any use other than an exclusively statistical purpose, except with the informed consent of the respondent.”

Responses will be kept confidential and will not be disclosed in identifiable form to anyone, other than employees or agents of BEA or agents of NIH, without prior written permission of the person filing the report. By law, each employee as well as each agent is subject to a jail term of up to 5 years, a fine of up to $250,000, or both for disclosing to the public any identifiable information that is reported about a business or institution.

Section 515 of the Information Quality Guidelines applies to this survey. The collection and use of this information comply with all applicable information quality guidelines, i.e., those of the Office of Management and Budget, Department of Commerce, and BEA.

III. Method of Collection

A survey with a cover letter that includes a brief description of, and rationale for, the survey will be sent by email to potential respondents by the first week of August 2020, 2021, and 2022. A report of the respondent's expenditures of the NIH award amounts, including NIH awards received as a sub-recipient from another institution, following the proposed format for expenditure categories included with the survey form, will be requested to be completed and submitted online no later than December 8, which in most years will be approximately 120 days after mailing. Survey respondents will be selected based on award levels, which determine the weight of the respondent in the biomedical research and development price index. Potential respondents will include (1) The top 100 organizations in total awards, which account for about 77 percent of total awards; (2) 40 additional organizations that are not primarily in the “Research and Development (R&D) contracts” category; and (3) 10 additional organizations that are primarily in the “R&D contracts” category.

IV. Data

OMB Control Number: 0608-0069.

Form Number: None.

Type of Review: Regular submission.

Affected Public: Universities or other organizations that are NIH award recipients.

Estimated Number of Respondents: 150.

Estimated Time per Response: 16 hours but may vary among respondents because of differences in institution structure, size, and complexity.

Estimated Total Annual Burden Hours: 2,400 hours.

Estimated Total Annual Cost to Public: $0.

V. Request for Comments

Comments are invited on: (a) Whether the proposed collection of information is necessary for the proper performance of the functions of the NIH, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: April 14, 2020.
Sheleen Dumas,
Department PRA Clearance Officer, Office of the Chief Information Officer, Commerce Department.

[FR Doc. 2020-08239 Filed 4-17-20; 8:45 am]

BILLING CODE 3510-EA-P